DEPARTMENT OF JUSTICE

Notice of Lodging of Proposed Consent Decree Under the Clean Water Act, Emergency Planning and Community Right-to-Know Act, and Comprehensive Environmental Response, Compensation and Liability Act

On February 14, 2022, the Department of Justice lodged a proposed Consent Decree with the United States District Court for the Northern District of Indiana in the lawsuit entitled United States and the State of Indiana v. Cleveland-Cliffs Burns Harbor LLC and Cleveland-Cliffs Steel LLC, Case No. 22-CV-26 (N.D. Ind.).

The Complaint seeks civil penalties, injunctive relief, and recovery of response costs relating to a steel manufacturing and finishing facility in Burns Harbor, Indiana (“Facility”) owned and operated by Cleveland-Cliffs Burns Harbor LLC and its corporate parent Cleveland-Cliffs Steel LLC (collectively, “Cleveland-Cliffs”). The Complaint alleges that Cleveland-Cliffs exceeded discharge pollution limits for cyanide and ammonia, including during an August 2019 spill; failed to properly report those cyanide and ammonia releases under the Emergency Planning and Community Right-to-Know Act, and the Comprehensive Environmental Response, Compensation and Liability Act; and violated other Clean Water Act and permit terms. Under the Consent Decree, Cleveland-Cliffs would be required to take a number of measures to come into compliance with the law. In particular, the proposed Consent Decree requires the operation of ammonia and cyanide treatment systems; measures to improve pollution control system reliability; specific procedures for preventing violations during another Facility incident, including the diversion of wastewater to a retention pond, treatment of wastewater, and prompt shutdown of the Facility processes; improvements to Cleveland-Cliffs' sampling and lab analysis; and public notification in the event of certain exceedances. Defendants are also required to complete two Environmentally-Beneficial Projects, to be administered by the state of Indiana: (1) The donation of 127 acres of land abutting the Indiana Dunes National Park to a qualified land trust organization for permanent conservation protection; and (2) a water sampling project to monitor and report on water quality at four locations in the East Branch of the Little Calumet River and Lake Michigan. Finally, the proposed Consent Decree would require payment of a civil penalty of $3 million, split evenly between the United States and Indiana, and reimbursement of the governments' response costs in responding to the August 2019 spill.

The publication of this notice opens a period for public comment on the Consent Decree. Comments should be addressed to the Assistant Attorney General, Environment and Natural Resources Division, and should refer to United States and the State of Indiana v. Cleveland-Cliffs Burns Harbor LLC and Cleveland-Cliffs Steel LLC, D.J. Ref. No. 90-5-1-1-12268. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $15.25 (25 cents per page reproduction cost) payable to the United States Treasury.

Patricia McKenna,
Assistant Section Chief, Environmental Enforcement Section, Environment and Natural Resources Division.

[FR Doc. 2022-03497 Filed 2-17-22; 8:45 am]

BILLING CODE 4410-15-P